CORPORATION FOR NATIONAL AND COMMUNITY SERVICE

Privacy Act of 1974; System of Records

AGENCY: Corporation for National and Community Service.

ACTION: Notice of modified systems of records.

SUMMARY: In accordance with the Privacy Act of 1974, as amended, the Office of Diversity, Equity, Inclusion, and Accessibility of the Corporation for National and Community Service (operating as AmeriCorps) is issuing a public notice of its intent to modify a system of records, Discrimination Complaint Files-Corporation-10, which will be renamed “CNCS-10-CEO-CRCM-Civil Rights Case Management System of Records.” The Office of Diversity, Equity, Inclusion, and Accessibility maintains CNCS-10-CEO-CRCM-Civil Rights Case Management System, which contains program discrimination complaints alleging unlawful discrimination under Title VI of the Civil Rights Act of 1964, as amended, arising within programs or activities conducted or assisted by AmeriCorps. The revisions update the system name, authority of the system, purpose of the system, addresses of the system location, system managers, the categories of records in the system, the categories of individuals in the system, the routine uses of the records, the safeguards, retention and disposal, notification procedures, records access procedures, notification procedures, and contesting record procedures.

DATES: Any comments must be received on or before May 29, 2024. Unless comments are received that would require a revision, this modified system of records will become effective on May 29, 2024.

ADDRESSES: You may submit comments identified by system name and number by any of the following methods:

1. Electronically through regulations.gov. Once you access regulations.gov, find the web page for this SORN by searching for CNCS-10-CEO-CRCM-Civil Rights Case Management.

2. By email at privacy@americorps.gov.

3. By mail: AmeriCorps, Attn: Bilal Razzaq, Chief Privacy Officer, OIT, 250 E Street SW, Washington, DC 20525.

4. By hand delivery or courier to AmeriCorps at the address for mail between 9:00 a.m. and 4:00 p.m. Eastern Standard Time, Monday through Friday, except for federal holidays.

Please note that all submissions received may be posted without change to regulations.gov, including any personal information. Commenters should be careful to include in their comments only information that they wish to make publicly available.

FOR FURTHER INFORMATION CONTACT: If you have general questions about the system of records, please contact ZhuoHong Liu at zliu@americorps.gov, by phone at 202-938-7868, or mail them to the address in the ADDRESSES section above. Please include the system of records' name and number.

SUPPLEMENTARY INFORMATION: AmeriCorps proposes to amend the existing system of records, Discrimination Complaint Files-Corporation-10, which was last published in the Federal Register in 67 FR 4404 (January 30, 2002).

The proposed amendments rename the system of records as “CNCS-10-CEO-CRCM-Civil Rights Case Management System of Records” (CRCM). The CRCM holds the agency's records for every part of AmeriCorps' Title VI Civil Rights discrimination complaints from intake to resolution and reporting.

The proposed amendments update the legal authorities of the system to include Executive Order 13985, Advancing Racial Equity and Support for Underserved Communities Through the Federal Government, January 20, 2021; Executive Order 14091, Further Advancing Racial Equity and Support for Underserved Communities Throughout the Federal Government, February 22, 2023; Executive Order 14096, Revitalizing Our Nation's Commitment to Environmental Justice for All, April 21, 2023. The legal authority for maintaining records covered by EEOC/GOVT-1, Equal Employment Opportunity in the Federal Government Complaint and Appeal Records system of records notice is excluded.

The proposed amendments convey that the Equal Employment Opportunity complaint records of federal employees and applicants are covered by the government-wide system of records EEOC/GOVT-1, Equal Employment Opportunity in the Federal Government Complaint and Appeal Records (last published 81 FR 81116, Nov. 17, 2016), and are no longer listed as records in CRCM.

The proposed amendments update the address of the system, purpose of the system, the system manager, the categories of records, the categories of individuals, the system location, storage, safeguards, retention and disposal, notification procedures, records access procedures, and contesting record procedures.

The proposed amendments revise former Routine Uses 6, 7, 8 and 9, and reorganize the Routine Uses. The former Routine Use 7 is replaced by Routine Use B. The former Routine Use 9 is replaced by Routine Use C. The former Routine Use 6 is replaced by Routine Use K. The former Routine Use 8 is replaced by Routine Use N. The former Routine Uses 1, 2, 3, 4, 5, 10, and 11 are reorganized into Routine Uses O, P, Q, R, S, T and U.

The proposed amendments add new Routine Uses A, D, E, F, G, H, I, J, L, and M to meet the current programmatic needs and the requirements of the Office of Management and Budget (OMB) Memorandum M-17-12, Preparing for and Responding to a Breach of Personally Identifiable Information (Jan. 3, 2017).

In accordance with 5 U.S.C. 552a(r), AmeriCorps has provided a report of this system of records to the Office of Management and Budget and to Congress.

SYSTEM NAME AND NUMBER:

CNCS-10-CEO-CRCM-Civil Rights Case Management System of Records

SECURITY CLASSIFICATION:

Unclassified.

SYSTEM LOCATION:

This system of records is maintained by the Office of Diversity, Equity, Inclusion, and Accessibility, Office of the Chief Executive Officer, AmeriCorps, 250 E Street SW, Washington, DC 20525.

SYSTEM MANAGER(S):

Director, Office of Diversity, Equity, Inclusion, and Accessibility, Office of the Chief Executive Officer, 250 E Street SW, Washington, DC 20525.

AUTHORITY FOR MAINTENANCE OF THE SYSTEM:

Title VI of the Civil Rights Act of 1964 (42 U.S.C. 2000d et seq.); Executive Order 13985, Advancing Racial Equity and Support for Underserved Communities Through the Federal Government, January 20, 2021; Executive Order 14091, Further Advancing Racial Equity and Support for Underserved Communities Through the Federal Government, February 22, 2023; Executive Order 14096, Revitalizing Our Nation's Commitment to Environmental Justice for All, April 21, 2023; the Rehabilitation Act of 1973, as amended; Title IX of the Education Amendments of 1972, as amended; the Age Discrimination Act of 1975, as amended; the Domestic Volunteer Service Act of 1973, as amended; and the National and Community Service Act of 1990, as amended.

PURPOSE(S) OF THE SYSTEM:

CRCM enables AmeriCorps' Office of Diversity, Equity, Inclusion, and Accessibility to modernize the Title VI Civil Rights complaint filing management and conduct streamlined complaint intake, counseling, and investigation under current legal authorities.

CATEGORIES OF INDIVIDUALS COVERED BY THE SYSTEM:

The system covers individuals who have filed informal or formal complaints with, or against, AmeriCorps, including any recipient of services, programs, or benefits from AmeriCorps or one of its programs; AmeriCorps members, applicants, or trainees for volunteer or service status, or employees of a grantee or program beneficiary.

CATEGORIES OF RECORDS IN THE SYSTEM:

The identity and contact information of complainants, including first, middle, and last names, email address, phone number, address, city, state, zip code, and any accommodation needed; information of program or person involved; complaint details and complaint processing and status information; other information produced during the course of processing a complaint, such as Reports of Investigation, counseling documents, case decisions, and relevant correspondence, including settlement and mediation agreements.

RECORD SOURCE CATEGORIES:

(1) Complainants, witnesses, etc. in discrimination complaints; (2) Reports of Investigation and Counselors' Reports; (3) copies of documents relevant to investigations; (4) records of hearings on complaints; and (5) correspondence.

ROUTINE USES OF RECORDS MAINTAINED IN THE SYSTEM, INCLUDING CATEGORIES OF USERS AND PURPOSES OF SUCH USES:

In addition to those disclosures generally permitted under 5 U.S.C. 552a(b), all or a portion of the records or information contained in this system of records may be disclosed as a routine use pursuant to 5 U.S.C. 552a(b)(3) under the circumstances or for the purposes described below, to the extent such disclosures are compatible with the purposes for which the information was collected:

A. To the U.S. Department of Justice (DOJ), including the U.S. Attorney's Offices, or other federal agencies conducting litigation or proceedings before any court, adjudicative, or administrative body, when it is relevant or necessary to the litigation or proceeding and one of the following is a party to the litigation or has an interest in such litigation:

(1) AmeriCorps;

(2) Any employee or former employee of AmeriCorps in his/her official capacity;

(3) Any employee or former employee of AmeriCorps in his/her individual capacity, but only when DOJ or AmeriCorps has agreed to represent the employee; or

(4) The United States or any agency thereof.

B. To a congressional office in response to an inquiry from that congressional office which is made at the request of the individual to whom the record pertains.

C. To the National Archives and Records Administration or General Services Administration, pursuant to records management inspections conducted under the authority of 44 U.S.C. 2904 and 2906.

D. To an agency or organization for the purpose of performing audit or oversight operations as authorized by law, but only such information as is necessary and relevant to the audit or oversight function.

E. To the Executive Office of the President in response to an inquiry from that office made at the request of the subject of a record, or a third party on that person's behalf, or for a purpose compatible with the reason for which the records are collected or maintained.

F. To an official of another federal agency to provide information needed in the performance of official duties related to reconciling or reconstructing data files or to enable that agency to respond to an inquiry by the individual to whom the record pertains.

G. To state, territorial, and local governments and tribal organizations to provide information needed in response to a court order and/or for discovery purposes related to litigation, when the disclosure is compatible with the purpose for which the records were compiled.

H. To appropriate agencies, entities, and persons when:

(1) AmeriCorps suspects or has confirmed that there has been a breach of the system of records;

(2) AmeriCorps has determined that as a result of the suspected or confirmed breach there is a risk of harm to individuals, AmeriCorps (including its information systems, programs, and operations), the Federal Government, or national security; and

(3) The disclosure made to such agencies, entities, and persons is reasonably necessary to assist AmeriCorps in connection with its efforts to respond to the suspected or confirmed breach or to prevent, minimize, or remedy such harm.

I. To another federal agency or federal entity, when AmeriCorps determines that information from this system of records is reasonably necessary to assist the recipient agency or entity in:

(1) Responding to a suspected or confirmed breach; or

(2) Preventing, minimizing, or remedying the risk of harm to individuals, the recipient agency or entity (including its information systems, programs, and operations), the Federal Government, or national security, resulting from a suspected or confirmed breach.

J. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

K. To a court, magistrate, or administrative tribunal in the course of presenting evidence, including disclosures to opposing counsel or witnesses in the course of civil discovery, litigation, or settlement negotiations or in connection with criminal law proceedings, when it is relevant and necessary to the litigation or proceeding.

L. To contractors and their agents, grantees, experts, consultants, and others performing or working on a contract, service, grant, cooperative agreement, or other assignment for AmeriCorps, when necessary to accomplish an agency function related to this system of records. Individuals provided information under this routine use are subject to the same requirements and limitations on disclosure as are applicable to AmeriCorps officers and employees.

M. To appropriate third parties contracted by AmeriCorps to investigate a complaint or appeal filed by an employee or applicant, or to facilitate and conduct mediation or other alternative dispute resolution (ADR) procedures or programs.

N. To any official or designee charged with the responsibility to conduct qualitative assessments at a designated statistical agency and other well established and trusted public or private research organizations, academic institutions, or agencies for an evaluation, study, research, or other analytical or statistical purpose.

O. Disclosure including referral:

(1) To a federal, state, or local agency charged with the responsibility of investigating, enforcing, or implementing the statutes, rules, regulations, or orders that authorize AmeriCorps' maintenance of this system;

(2) to an investigator, counselor, grantee or other recipient of federal financial assistance or hearing officer or arbitrator charged with the above responsibilities;

(3) any and all appropriate and necessary uses of such records in a court of law or before an administrative board or hearing; and

(4) such other referrals as may be necessary to carry out the enforcement and implementation of the statutes, rules, regulations, or orders that authorize AmeriCorps' maintenance of this system.

P. To the Congressional committees having legislative oversight over the program involved, including when actions are proposed to be undertaken by suspending or terminating or refusing to grant or to continue federal financial assistance for violation of the statutes, rules, regulations, or orders that apply to recipients of federal financial assistance from AmeriCorps.

Q. To any source, either private or governmental, to the extent necessary to secure from source information relevant to, and sought in furtherance of, a legitimate investigation or Equal Employment Opportunity counseling matter.

R. To a contractor, grantee or other recipient of federal financial assistance, when the record to be released reflects serious inadequacies with the recipient's personnel, and disclosure of the record is for the purpose of permitting the recipient to effect corrective action in the Government's best interests.

S. To any party pursuant to the receipt of a valid subpoena.

T. To federal, state, local and professional licensing authorities when the record to be released reflects on the moral, educational, or vocational qualifications of an individual seeking to be licensed.

U. To the Office of Government Ethics (OGE) for any purpose consistent with OGE's mission, including the compilation of statistical data.

POLICIES AND PRACTICES FOR STORAGE OF RECORDS:

AmeriCorps stores records in this system electronically.

POLICIES AND PRACTICES FOR RETRIEVAL OF RECORDS:

Records may be retrieved by the complainant's name.

POLICIES AND PRACTICES FOR RETENTION AND DISPOSAL OF RECORDS:

The applicable records retention and disposition schedules are General Records Schedule (GRS) 2.3, item 110 and GRS 2.3, item 111. The disposition authority for Title VI Civil Rights discrimination informal complaint case file is DAA-GRS-2018-0002-0012. The disposition is temporary, and records will be destroyed 3 years after resolution of a case, but longer retention is authorized if required for business use. The disposition authority for Title VI Civil Rights discrimination formal complaint case files is DAA-GRS-2018-0002-0013. The disposition is temporary, and records will be destroyed 7 years after resolution of a case, but longer retention is authorized if required for business use.

ADMINISTRATIVE, TECHNICAL, AND PHYSICAL SAFEGUARDS:

AmeriCorps safeguards records in this system according to applicable laws, rules, and policies, including all applicable AmeriCorps automated systems security and access policies. AmeriCorps has strict controls in place to minimize the risk of compromising the information that is being stored. Access to the computer system containing the records in this system is limited to those individuals who have a need to know the information for the performance of their official duties and who have appropriate clearances or permissions.

RECORD ACCESS PROCEDURES:

In accordance with 45 CFR part 2508—Implementation of the Privacy Act of 1974, as amended, individuals wishing to access their own records stored within the system of records may contact the FOIA Officer/Privacy Act Officer by sending (1) an email to FOIA@americorps.gov or (2) a letter addressed to the System Manager, Attention Privacy Inquiry. Individuals who make a request must include enough identifying information (i.e., full name, current address, date, and signature) to locate their records, indicate that they want to access their records, and be prepared to confirm their identity as required by 45 CFR part 2508.

CONTESTING RECORD PROCEDURES:

All requests to contest or amend information maintained in the system will be directed to the FOIA Officer/Privacy Act Officer. Individuals who make a request must include enough identifying information to locate their records, in the manner described above in the Record Access Procedures section. Requests should state clearly and concisely what information is being contested, the reasons for contesting it, and the proposed amendment to the information.

NOTIFICATION PROCEDURES:

Any individual desiring to contest or amend information not subject to exemption may contact the FOIA Officer/Privacy Act Officer via the contact information in the Record Access Procedures section. Individuals who make a request must include enough identifying information to locate their records, indicate that they want to be notified whether their records are included in the system, and be prepared to confirm their identity as required by 45 CFR part 2508.

EXEMPTIONS PROMULGATED FOR THE SYSTEM:

None.

HISTORY:

Discrimination Complaint Files-Corporation-10 issued 67 FR 4395-4410 (January 30, 2002).

Prabhjot Bajwa,
Senior Agency Official for Privacy and Chief Information Officer.

[FR Doc. 2024-09147 Filed 4-26-24; 8:45 am]

BILLING CODE 6050-28-P